DEPARTMENT OF COMMERCE

National Oceanic and Atmospheric Administration

RIN 0648-XE977

New England Fishery Management Council; Public Meeting; Cancellation

AGENCY: National Marine Fisheries Service (NMFS), National Oceanic and Atmospheric Administration (NOAA), Commerce.

ACTION: Notice of cancellation of a public meeting.

SUMMARY: The New England Fishery Management Council (Council) has cancelled the public meeting of its Herring Committee that was scheduled for Wednesday, November 9, 2016, at 9 a.m.

FOR FURTHER INFORMATION CONTACT: Thomas A. Nies, Executive Director, New England Fishery Management Council; telephone: (978) 465-0492.

SUPPLEMENTARY INFORMATION: The original notice was published in the Federal Register on Thursday, October 20, 2016, (81 FR 72574). The meeting will be rescheduled at a later dated and announced in the Federal Register.

Dated: October 24, 2016.
Tracey L. Thompson,
Acting Deputy Director, Office of Sustainable Fisheries, National Marine Fisheries Service.

[FR Doc. 2016-25997 Filed 10-26-16; 8:45 am]

BILLING CODE 3510-22-P